Title 3—

The President

Proclamation 10251 of September 9, 2021

National Days of Prayer and Remembrance, 2021

By the President of the United States of America

A Proclamation

Twenty years ago, our Nation was forever changed. On September 11, 2001, as ordinary people started their days in Manhattan, Shanksville, and Arlington, cowardly acts born out of twisted hate stole 2,977 innocent lives, devastating families and communities. People across the world were shocked by the cruelty and horror of the terrorist act, even as they were inspired by the bravery of the first responders. Two decades have passed since that day of terror, yet the trauma, the pain, and the quest for justice—both personal and collective—still haunt our memories. Planes piercing buildings. Smoke filling skies. Towers turning to dust. The injured fleeing to safety. The heroes rushing toward danger.

During the National Days of Prayer and Remembrance, we honor those who lost their lives on September 11—lives that will never be forgotten. We also commemorate the humanity and selfless sacrifice of the first responders, service members, and ordinary citizens who banded together to rescue survivors and build a community of support around those who suffered unimaginable loss. Even as we continue to recover from this tragedy, we know for certain that there is nothing that America cannot overcome. Through sorrow, with God's help, we find strength. Through remembrance, in God's mercy, we find healing. We move forward with resolve, forever cherishing the memories of the souls who perished that day.

The seeds of chaos, planted that September by those who wished to harm us, blossomed instead into fields of hope for a brighter future. A new generation of patriots—many of whom were just children on that bright September morning, some of whom had not yet been born—now serve in our Armed Forces, as law enforcement officers and firefighters, as paramedics, in the halls of our Federal buildings, and beyond, determined to build our country back better, safer, and more united.

During these National Days of Prayer and Remembrance, we solemnly reflect on the freedom and tolerance that are part of our American character. We commit to preserving the memories of our fallen loved ones with the same tenacity with which we uphold the American values that are the root of our strength. We pray for the victims and all those who still mourn their loss. May the power of prayer bring comfort, and may God bless the United States of America.

NOW, THEREFORE, I, JOSEPH R. BIDEN JR., President of the United States of America, by virtue of the authority vested in me by the Constitution and the laws of the United States, do hereby proclaim September 10, 2021, through September 12, 2021, as National Days of Prayer and Remembrance. I ask that people of the United States honor and remember the victims of September 11, 2001, and their loved ones through prayer, contemplation, memorial services, the visiting of memorials, the ringing of bells, evening candlelight remembrance vigils, and other appropriate ceremonies and activities. I invite people around the world to participate in this commemoration. I invite the citizens of our Nation to give thanks, in accordance with their own faiths and consciences, for our many freedoms and blessings, and I join all people of faith in prayers for spiritual guidance, mercy, and protection.

IN WITNESS WHEREOF, I have hereunto set my hand this ninth day of September, in the year of our Lord two thousand twenty-one, and of the Independence of the United States of America the two hundred and forty-sixth.

[FR Doc. 2021-19920

Filed 9-13-21; 8:45 am]

Billing code 3295-F1-P